NATIONAL SCIENCE FOUNDATION (NSF)

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Wednesday, July 17, 2019 from 9:00 a.m. to 5:10 p.m., and Thursday, July 18, 2019 from 9:45 a.m. to 1:50 p.m. EDT.

PLACE: These meetings will be held at the NSF headquarters, 2415 Eisenhower Avenue, Alexandria, VA 22314. Meetings are held in the boardroom on the 2nd Floor. The public may observe public meetings held in the boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Wednesday, July 17, 2019

Plenary Board Meeting

Open Session: 9:00-9:30 a.m.

• NSB Chair's Opening Remarks

• NSF Director's Remarks

• Summary of Activities

Committee on National Science and Engineering Policy (SEP)

Open Session: 9:30-10:00 a.m.

• Committee Chair's Opening Remarks

• Approval of Prior SEP Minutes

• Update and Discussion of the Outline of “The State of Science & Engineering in the U.S.” (summary report)

• Update on Indicators Roadshow Activities

• Reimagining Indicators Production Process and Coordination with NSB

Task Force on the Skilled Technical Workforce (STW TF)

Open Session: 10:00-10:30 a.m.

• Task Force Chair's Opening Remarks

• Approval of Prior Meeting Minutes

• Final Report Discussion and Vote

• Final Report Rollout Discussion

Committee on Oversight (CO)

Open Session: 10:45-11:30 a.m.

• Committee Chair's Opening Remarks

• Approval of Committee Meeting Minutes

• Merit Review Report Update

• Chief Financial Officer's Update

• Inspector General's Update

Committee on Awards and Facilities (A&F)

Open Session: 11:30 a.m.-12:15 p.m.

• Committee Chair's Opening Remarks

• Approval of Prior Minutes

• Calendar Year (CY) 2019 Schedule of Planned Action and Context Items

• Information Item: Cost Oversight for Major Facility Projects

Committee on Strategy (CS)

Open Session: 1:15-3:05 p.m.

• Committee Chair's Opening Remarks

• Approval of Prior Minutes

• Update on Budgets

• Presentation: Directorate for Social, Behavioral, and Economic Science Overview

• Presentation: NSF Partnerships

• Presentation: MULTIPlying Impact Leveraging International Expertise in Research Missions (MULTIPLIERS) Update

Committee on Strategy (CS)

Closed Session: 3:15-3:55 p.m.

• Committee Chair's Remarks

• Approval of Prior Closed Minutes

• Update on Budgets

Committee on Awards and Facilities (A&F)

Closed Session: 3:55-5:10 p.m.

• Committee Chair's Opening Remarks

• Approval of Prior Closed Minutes

• Written Item: Mid-Scale Research Infrastructure (MSRI) I & II

• Written Item: National Center for Optical-Infrared Astronomy (NCOA)

• Presentation: National Ecological Observatory Network (NEON) Update

Thursday, July 18, 2019

Plenary Board

Open Session: 9:45-10:45 a.m.

• NSB Chair's Opening Remarks

• Science and Security Roundtable

Task Force on Vision 2030 (Vision TF)

Open Session: 10:45-11:15 a.m.

• Task Force Chair's Opening Remarks

• Update on Vision Project

Plenary Board

Closed Session: 11:15-11:30 a.m.

• NSB Chair's Opening Remarks

• NSF Director's Remarks

• Approval of Prior Closed Minutes

• Closed Committee Reports

Plenary Board (Executive)

Closed Session: 11:30 a.m.-12:10 p.m.

• NSB Chair's Opening Remarks

• Approval of Prior Executive Closed Minutes

• NSF Director's Remarks

○ Executive Search Update

• Report by Committee on Nominations

Plenary Board

Open Session: 1:10-1:50 p.m.

• NSB Chair's Opening Remarks

• Approval of Prior Minutes

• NSF Director's Remarks

○ Senior Staff Updates

○ Office of Legislative and Public Affairs (OLPA) Information Item

• Open Committee Chair Reports

• Vote on STW Final Report

• Vote on CY 2020 NSB Meeting Schedule

• National Academies Reproducibility and Replicability Report

• NSB Chair's Closing Remarks

Meeting Adjourns: 1:50 p.m.

MEETINGS THAT ARE OPEN TO THE PUBLIC:

Wednesday, July 17, 2019

9:00-9:30 a.m.—Plenary NSB

9:30-10:00 a.m.—SEP

10:00-10:30 a.m.—STW TF

10:45-11:30 a.m.—CO

11:30 a.m.-12:15 p.m.—A&F

1:15-3:05 p.m.—CS

Thursday, July 18, 2019

9:45-10:45 a.m.—Plenary

10:45-11:15 a.m.—Vision TF

1:10-1:50 p.m.—Plenary

MEETINGS THAT ARE CLOSED TO THE PUBLIC:

Wednesday, July 17, 2019

3:15-3:55 p.m.—CS

3:55-5:10 p.m.—A&F

Thursday, July 18, 2019

11:15-11:30 a.m.—Plenary

11:30 a.m.-12:10 p.m.—Plenary Executive

CONTACT PERSONS FOR MORE INFORMATION: The NSB Office contact is Brad Gutierrez, bgutierr@nsf.gov, 703-292-7000. The NSB Public Affairs contact is Nadine Lymn, nlymn@nsf.gov, 703-292-2490.

SUPPLEMENTARY INFORMATION: Public meetings and public portions of meetings held in the 2nd floor boardroom will be webcast. To view these meetings, go to: http://www.tvworldwide.com/events/nsf/190717/ and follow the instructions. The public may observe public meetings held in the boardroom. The address is 2415 Eisenhower Avenue, Alexandria, VA, 22314.

Please refer to the NSB website for additional information. You will find any updated meeting information and schedule updates (time, place, subject matter, or status of meeting) at https://www.nsf.gov/nsb/meetings/notices.jsp#sunshine.

The NSB provides some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15. Arrive at the NSB boardroom or check the webcast 15 minutes before the scheduled start time of the meeting you wish to observe.

Chris Blair,
Executive Assistant to the National Science Board Office.

[FR Doc. 2019-14929 Filed 7-10-19; 11:15 am]

BILLING CODE 7555-01-P